DEPARTMENT OF ENERGY

Federal Energy Regulatory Commission

[Docket No. RP01-246-000]

Natural Gas Pipeline Company of America; Notice of Technical Conference

April 20, 2001.

In the Commission's order issued on March 30, 2001,¹ the Commission directed that a technical conference be held to address issues raised by filing.

¹ 94 FERC ¶ 61,389 (2001).

Take notice that the technical conference will be held on Tuesday, May 22, 2001, at 10 a.m., in a room to be designated, at the offices of the Federal Energy Regulatory Commission, 888 First Street, NE., Washington, DC 20426.

All interested parties and Staff are permitted to attend.

Linwood A. Watson, Jr.,
Acting Secretary.

[FR Doc. 01-10323 Filed 4-25-01; 8:45 am]

BILLING CODE 6717-01-M